DEPARTMENT OF TRANSPORTATION

Federal Transit Administration

Limitation on Claims Against Proposed Public Transportation Project—Point of the Mountain Transit Project, Salt Lake County and Utah County, Utah

AGENCY: Federal Transit Administration (FTA), Department of Transportation (DOT).

ACTION: Notice.

SUMMARY: This notice announces final environmental actions taken by the Federal Transit Administration (FTA) regarding the Point of the Mountain Transit Project, Salt Lake County and Utah County, Utah. The purpose of this notice is to publicly announce FTA's environmental decisions on the subject project, and to activate the limitation on any claims that may challenge these final environmental actions.

DATES: A claim seeking judicial review of FTA actions announced herein for the listed public transportation project will be barred unless the claim is filed on or before March 2, 2026.

FOR FURTHER INFORMATION CONTACT: Kathryn Loster, Assistant Chief Counsel, Office of Chief Counsel, (202) 360-2322, or Saadat Khan, Environmental Protection Specialist, Office of Environmental Policy and Programs, (202) 366-6385. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), Section 4(f) requirements (49 U.S.C. 303), Section 106 of the National Historic Preservation Act (54 U.S.C. 306108), the Endangered Species Act (16 U.S.C. 1531), the Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project modifications and actions that are the subject of this notice follow:

Project Name and Location: Point of the Mountain Transit Project (Project), Salt Lake County and Utah County, Utah.

Project Sponsor: Utah Department of Transportation (UDOT) and Utah Transit Authority (UTA), Salt Lake City, Salt Lake County, Utah.

Project Description: The Project involves construction of an approximately 10-mile-long, high-capacity light rail transit system extending between the cities of Draper and Lehi in northern Utah and predominantly within the existing right-of-way. The Project also consists of construction of up to 11 stations, and other associated infrastructure improvements, such as supporting facilities. In addition, the Project includes construction of a full-service operations and maintenance facility located on an UTA-owned parcel in Draper, between Minuteman Drive and Marion Vista Boulevard, and adjacent to the existing rail corridor.

Final Agency Action: Section 106 Memorandum of Agreement, dated June 18, 2025; Section 4(f) de minimis determination dated September 6, 2024; Point of the Mountain Transit Project Finding of No Significant Impact (FONSI), dated September 19, 2025.

Supporting Documentation: Point of the Mountain Transit Project Environmental Assessment (EA), dated June 9, 2025. The EA, FONSI, and associated documents can be viewed and downloaded from: https://udotinput.utah.gov/pointtransit.

Authority: 23 U.S.C. 139(l)(1).

Megan Blum,
Deputy Associate Administrator for Planning and Environment.

[FR Doc. 2025-19247 Filed 10-1-25; 8:45 am]

BILLING CODE 4910-57-P